DEPARTMENT OF COMMERCE

National Oceanic and Atmospheric Administration

RIN 0648-XV037

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one-day meeting of its Coral Scientific and Statistical Committee (SSC), Coral and Shrimp Advisory Panels (AP).

DATES: The meeting will convene on Monday, September 16, 2019, from 8:30 a.m. to 5 p.m., EDT. For agenda details, see SUPPLEMENTARY INFORMATION.

ADDRESSES: The meeting will be held at the Gulf Council office.

Council address: Gulf of Mexico Fishery Management Council, 4107 W Spruce Street, Suite 200, Tampa, FL 33607; telephone: (813) 348-1630.

FOR FURTHER INFORMATION CONTACT: Dr. Natasha Mendez-Ferrer, Biologist, Gulf of Mexico Fishery Management Council; natasha.mendez@gulfcouncil.org, telephone: (813) 348-1630. The Council's website, www.gulfcouncil.org also has details on the meeting location, proposed agenda, webinar listen-in access, and other materials.

SUPPLEMENTARY INFORMATION: The following items are on the agenda, though agenda items may be addressed out of order (changes will be noted on the Council's website when possible.)

Monday, September 16, 2019; 8:30 a.m.-5 p.m.

The meeting will begin with introduction of members, election of Coral Advisory Panel Chair and Vice Chair; and, adoption of agenda. The committees will approve the Joint Shrimp and Coral APs and Coral SSC minutes from the August 3-4, 2016 meeting; and, receive a summary of the Joint Standing and Coral SSC minutes from the January 9, 2018 meeting.

Council staff will review the scope of work; and NMFS will give an update on the Implementation Status of Coral 9. The committees will receive an update on Flower Garden Banks National Marine Sanctuary expansion; Florida Keys National Marine Sanctuary expansion, and implications for fisheries management; Stony Coral Tissue Loss Disease; and, Coral Reef Conservation Program Update. The committees will discuss any Other Business items.

Meeting Adjourns

The meeting will be broadcast via webinar. You may register for the listen-in access by visiting www.gulfcouncil.org and clicking on the SSC/AP meeting on the calendar. The Agenda is subject to change, and the latest version along with other meeting materials will be posted on www.gulfcouncil.org as they become available.

Although other non-emergency issues not on the agenda may come before the group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: August 22, 2019.
Tracey L. Thompson,
Acting Deputy Director, Office of Sustainable Fisheries, National Marine Fisheries Service.

[FR Doc. 2019-18460 Filed 8-26-19; 8:45 am]

BILLING CODE 3510-22-P